DEPARTMENT OF HOMELAND SECURITY

Transportation Security Administration

New Emergency Agency Information Collection Activity Under OMB Review: Critical Facility Information of the Top 100 Most Critical Pipelines

AGENCY: Transportation Security Administration, DHS.

ACTION: Notice of emergency clearance request.

SUMMARY: This notice announces that the Transportation Security Administration (TSA) has forwarded the new Information Collection Request (ICR) abstracted below to the Office of Management and Budget (OMB) for emergency processing and approval under the Paperwork Reduction Act. The ICR describes the nature of information collection and its expected burden. This collection provides TSA critical facility and annual product through-put information from owners/operators of the nation's largest pipelines, and is necessitated by the requirements set forth in the Implementing the Recommendations of the 9/11 Commission Act of 2007.

DATES: Send your comments by January 25, 2008. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Critical Facility Information of the Top 100 Most Critical Pipelines.

Type of Request: Emergency processing request of new collection.

OMB Control Number: Not yet assigned.

Forms(s): None.

Affected Public: Owners and operators of the top 125 pipeline systems in terms of reported annual through-put.

Abstract: Sec. 1557(b) of the Implementing Recommendations of the 9/11 Commission Act of 2007 (Pub. L. 110-53, 121 Stat. 266, 475, 08/03/2007) (9/11 Act), specifically tasks TSA to develop and implement a plan for inspecting critical facilities at the 100 most critical pipeline systems. TSA is requesting emergency processing of this request to meet the 9/11 Act established timelines. To meet the 9/11 Act's requirement, TSA will request a report of annual product through-put and a listing of critical facilities from the top 125 pipeline systems in terms of annual through-put, as reported in pipeline trade journals and other sources. System through-put is a figure already determined and frequently used by pipeline companies for various business financial and operations performance purposes. Further, pipeline companies were required to determine critical facilities in accordance with guidance set forth in the “Pipeline Security Circular September 4, 2002” (2002 Guidelines) issued by the U.S. Department of Transportation's Pipeline and Hazardous Material Safety Administration (PHMSA), formerly the Office of Pipeline Safety.

TSA determines pipeline system criticality based on the amount of hazardous liquid or natural gas product transported through a pipeline in one year (i.e., annual through-put). TSA will request the information from the top 125 pipeline systems in terms of annual through-put, and out of these, TSA will make a determination of the top 100 most critical pipeline systems. The request for information will be transmitted by TSA via e-mail to the 125 respondents. TSA will ask the respondents to provide the information to TSA via e-mail. To the extent the information transmitted is Sensitive Security Information, TSA will safeguard the information in accordance with 49 CFR parts 15 and 1520. TSA will use the information to develop and implement a plan for inspecting critical facilities at the 100 most critical pipeline systems.

The information on both critical facilities and system through-put are already produced and in use or retained by pipeline owners/operators, the burden lies only in compiling, reviewing and transmitting the information to TSA. TSA estimates that system owners and operators would spend a maximum of four hours per system to collect, review and submit the information to TSA. Thus, TSA estimates the total annual hour burden to the public would be (125 owner/operators) × (4 hours per owner/operator) = 500 total hours per year.

Number of Respondents: 125.

Estimated Annual Burden Hours: An estimated 500 hours annually.

Issued in Arlington, Virginia, on November 18, 2007.
Fran Lozito,
Director, Business Management Office, Operational Process and Technology.

[FR Doc. E7-24900 Filed 12-21-07; 8:45 am]

BILLING CODE 9110-05-P